NATIONAL SCIENCE FOUNDATION

Notice of Intent To Seek Approval To Establish an Information Collection

AGENCY: National Science Foundation.

ACTION: Notice and request for comments.

SUMMARY: Under the Paperwork Reduction Act of 1995, and as part of its continuing effort to reduce paperwork and respondent burden, the National Science Foundation (NSF) is inviting the general public or other Federal agencies to comment on this proposed continuing information collection.

DATES: Written comments on this notice must be received by July 29, 2024, to be assured consideration. Comments received after that date will be considered to the extent practicable. Send comments to address below.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

Comments: Comments are invited on: (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

SUPPLEMENTARY INFORMATION:

Title of Collection: NSF's Evaluation of the Robert Noyce Teacher Scholarship Program.

OMB Number: 3145-NEW.

Expiration Date of Approval: Not applicable.

Type of Request: Intent to seek approval to establish an information collection.

Abstract: The National Science Foundation (NSF) Robert Noyce Teacher Scholarship Program (Noyce) aims to address the critical need for highly effective elementary and secondary mathematics and science teachers in high-need school districts. The program supports the recruitment, preparation, and retention of STEM (science, technology, engineering, and mathematics) undergraduate majors and professionals to become K-12 STEM teachers, as well as experienced teachers to become teacher leaders. Noyce offers four program tracks:

1. Scholarships and Stipends: Supports undergraduate STEM majors and professionals with financial assistance and stipends to become K-12 STEM teachers in high-need school districts. Requires a teaching commitment of 2 years for each year of scholarship support.

2. Teaching Fellowships: Provides support to STEM professionals to become K-12 STEM teachers in high-need districts. Requires a 4-year teaching commitment.

3. Master Teaching Fellowships: Supports experienced K-12 STEM teachers to become teacher leaders in high-need districts. Requires a 5-year teaching commitment.

4. Noyce Research: Funds research projects focused on the effectiveness and retention of K-12 STEM teachers in high-need districts.

Additionally, the program accepts Capacity Building proposals from those preparing to submit proposals in any of the program's tracks and supports conference proposals aimed at improving STEM teacher preparation. The program also invites proposals for authentic Research Experiences in STEM Settings (RESS) for both Noyce and non-Noyce pre-service and in-service STEM teachers.

The NSF Directorate for STEM Education (EDU) Division of Undergraduate Education (DUE) requires evaluation and technical services for the Noyce program. Noyce has a 20-year history of responding to the critical need for highly effective K-12 STEM teachers in high-need school districts by recruiting and preparing talented undergraduate STEM majors and STEM professionals to pursue teaching careers in elementary and secondary schools. Since its inception, the program has commissioned three program evaluations, the most recent in 2017. In 2023 Noyce sought contractor support to evaluate Noyce outcomes and processes to determine the effectiveness of program components in meeting established goals within the last 10 years. SRI was selected to complete this work.

The evaluation of Noyce focuses on three evaluation questions:

1. What are the goals of Noyce awards and what activities do teacher preparation programs use to diversify, recruit, select, prepare, empower, and support Noyce recipients?

2. What are the relationships between the types of support, activities, and training that Noyce recipients receive; the types of Noyce recipients; and the recipients' plans to go into and stay in teaching and leadership roles?

3. What is the impact of Noyce on teacher certification in STEM fields and employment in high-need schools?

The NSF EDU Directorate requests the Office of Management and Budget (OMB) approval of this clearance to initiate new data collections to be conducted as part of an external evaluation of the Noyce program. These collections, to be conducted by the evaluation contractor, include:

Qualitative data collection. The qualitative data collection includes interviews and focus groups that will support the development of case studies, network analysis. We plan to conduct case studies with up to 12 Noyce hub grantees. The case studies will include the awardee institution, its partner organizations, Noyce project staff, project participants, and partner schools. Our primary method of data collection will be through interviews with key stakeholders. These stakeholders will include the Noyce project Principal Investigator (PI), co-PI(s), program staff, and teachers. This data will also be used to support Noyce network analysis to understand how Noyce-funded individuals and organizations are connected and the quality of their interactions. In addition, we plan to conduct an additional 20 interviews with Noyce principal investigators, scholars, and teachers, along with 10 focus groups.

Use of the Information: Noyce anticipates using the results of this evaluation to:

1. Identify “Noyce best, emerging, or promising practices” that can make the program more effective and efficient to sustain and grow impacts of Noyce on diversifying, recruiting, selecting, preparing, empowering, and supporting K-12 STEM teachers.

2. Inform Noyce on sustainability mechanisms and goals appropriate for Noyce Principal Investigators (PIs) to maintain their successful outcomes.

3. To understand and disseminate how Noyce is impacting the field.

4. Provide insights into potential barriers PIs face that inhibit success.

5. Identify strategies Noyce projects can implement to optimize goal attainment, effectiveness, and efficiencies.

Expected Respondents: Data collection will primarily involve interviews with key stakeholders including the Noyce project Principal Investigator (PI), co-PI(s), program staff, and teachers.

Estimate of Burden

Estimates of Annualized Cost to Respondents for the Hour Burdens: The overall annualized cost to the respondents is estimated to be $8,435. The following table shows the estimated burden and costs to respondents. The estimated hourly rates are based on a report from the Bureau of Labor Statistics' Occupational Employment and Wages, May 2023).¹

¹ https://www.bls.gov/oes/.

Collection title | Total number of respondents | Burden hours per respondent | Total hour burden | Average hourly rate | Estimated annual cost
Noyce PIs, program staff for case studies | 60 | 1 | 60 | $48.87 | $2,932.20
Noyce-funded teachers for case studies | 60 | 1 | 60 | 35.48 | 2,128.80
Noyce PIs, program staff | 10 | 1 | 10 | 48.87 | 488.70
Noyce teacher interviews | 10 | 1 | 10 | 35.48 | 354.80
Noyce PIs, program staff focus groups | 30 | 1 | 30 | 48.87 | 1,466.10
Noyce teacher focus groups | 30 | 1 | 30 | 35.48 | 1,064.40
Total | 200 |  | 200 |  | 8,435.00

Estimated Number of Responses per Report: Data collection is estimated to involve a total number of 200 respondents.

Dated: May 23, 2024.
Suzanne H. Plimpton,
Reports Clearance Officer, National Science Foundation.

[FR Doc. 2024-11759 Filed 5-28-24; 8:45 am]

BILLING CODE 7555-01-P